DEPARTMENT OF TRANSPORTATION

Federal Highway Administration

[Docket No. FHWA-2004-18982]

Agency Information Collection Activities; Request for Comments; Clearance of a New Information Collection; Identify and Evaluate Barriers to Right-of-Way Training Needs

AGENCY: Federal Highway Administration (FHWA), DOT.

ACTION: Notice and request for comments.

SUMMARY: The FHWA invites public comments about our intention to request the Office of Management and Budget's (OMB) approval of a new information collection, which is summarized below under Supplementary Information. We are required to publish this notice in the Federal Register by the Paperwork Reduction Act of 1995.

DATES: Comments must be submitted on or before December 20, 2004.

ADDRESSES: You may submit comments identified by DOT DMS Docket Number FHWA-2004-18982 by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590.

• Hand Delivery: Room PL-401 on the plaza level of the Nassif Building, 400 Seventh Street, SW., Washington, DC, between 9 a.m. and 5 p.m., Monday through Friday, except Federal holidays.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Mamie Smith, (202) 366-2529, Office of Real Estate Services, Federal Highway Administration, Department of Transportation, 400 Seventh Street, SW., Washington, DC 20590. Office hours are from 7:30 a.m. to 5 p.m., Monday through Friday, except Federal holidays.

SUPPLEMENTARY INFORMATION:

Title: Identify and Evaluate Barriers to Right-of-Way Training Needs.

Abstract: More training for individuals handling right-of-way activities for Federal and State transportation agencies is needed. The State right-of way managers and the Federal Highway Administration (FHWA) divisions' realty offices frequently express concern to the FHWA's Office of Real Estate Services (HEPR) about the lack of training for current and new employees. Yet, it appears that these groups may underutilize existing training resources, such as courses offered through the National Highway Institute (NHI), the International Right-of-Way Association (IRWA), and the Appraisal Institute (AI). The goal of this research project is to determine whether HEPR's State and Federal customers are taking full advantage of existing training opportunities. This proposed information collection would involve responses to a questionnaire and a follow-up survey to identify and evaluate barriers to existing right-of-way training courses.

Respondents: The respondents to the survey will be the state right-of-way managers and the FHWA division realty officers in all 50 states, the District of Columbia and Puerto Rico, as well as the selected training providers at NHI, IRWA, and AI.

Frequency: This is a one-time survey.

Estimated Average Burden per Response: The estimated average burden per response is 30 minutes. This includes the time needed to complete the questionnaire and the follow-up survey.

Estimated Total Annual Burden Hours: The estimated total annual burden for all respondents is 45 hours.

Public Comments Invited: Interested parties are invited to send comments regarding any aspect of this information collection, including but not limited to: (1) The necessity and utility of the information collection for the proper performance of the functions of the FHWA; (2) the accuracy of the estimated burden; (3) ways to enhance the quality, utility, and clarity of the collected information; and (4) ways to minimize the collection burden, including the use of electronic technology without reducing the quality of the collected information. Comments submitted in response to this notice will be summarized and/or included in the request for OMB's clearance of this information collection.

Privacy Act: Anyone is able to search the electronic form of all comments received into any of our dockets by the name of the individual submitting the comment (or signing the comment, if submitted on behalf of an association, business, labor union, etc.). You may review DOT's complete Privacy Act Statement in the Federal Register published on April 11, 2000 (volume 65, number 70; pages 19477-78), or you may visit http://dms.dot.gov.

Authority: The Paperwork Reduction Act of 1995; 44 U.S.C. Chapter 35, as amended; and 49 CFR 1.48.

James R. Kabel,
Chief, Management Programs and Analysis Division.

[FR Doc. 04-23549 Filed 10-20-04; 8:45 am]

BILLING CODE 4910-22-P